DEPARTMENT OF AGRICULTURE

Food Safety and Inspection Service

[Docket No. FSIS-2014-0045]

Codex Alimentarius Commission: Meeting of the Codex Committee on Food Additives

AGENCY: Office of the Under Secretary for Food Safety, USDA.

ACTION: Notice of public meeting and request for comments.

SUMMARY: The Office of the Acting Under Secretary for Food Safety, U.S. Department of Agriculture (USDA), and the Food and Drug Administration (FDA), U.S. Department of Health and Human Services are sponsoring a public meeting on February 17, 2015, from 9 a.m. to 12 p.m. The objective of the public meeting is to provide information and receive public comments on agenda items and draft United States (U.S.) positions to be discussed at the 47th Session of the Codex Committee on Food Additives (CCFA) of the Codex Alimentarius Commission (Codex), taking place in Xi'an, China, March 23-27, 2015. The Acting Under Secretary for Food Safety and FDA recognize the importance of providing interested parties the opportunity to obtain background information on the 47th Session of the CCFA and to address items on the agenda.

DATES: The public meeting is scheduled for Tuesday, February 17, 2015, from 9:00 a.m.-12:00 p.m.

ADDRESSES: The public meeting will take place at the Harvey Wiley Federal Building, U.S. Food and Drug Administration, 5100 Paint Branch Parkway, Rooms 1A-001 and 1A-002, College Park, MD 20740.

Documents related to the 47th Session of the CCFA will be accessible via the World Wide Web at the following address: http://www.codexalimentarius.org/meetings-reports/en/.

Susan Carberry, U.S. Delegate to the 47th Session of the CCFA and FDA, invite U.S. interested parties to submit their comments electronically to the following email address: ccfa@fda.hhs.gov.

Registration

Attendees may register by emailing ccfa@fda.hhs.gov by February 12, 2015. Early registration is encouraged because it will expedite entry into the building and its parking area. If you require parking, please include the vehicle make and tag number when you register. Because the meeting will be held in a Federal building, you should also bring photo identification and plan for adequate time to pass through security screening systems. Attendees that are not able to attend the meeting in person but wish to participate may do so by phone. Those wishing to participate by phone should request the call-in number and conference code when they register for the meeting.

For Further Information about the 47th Session of the CCFA Contact: Susan Carberry, Ph.D., Supervisory Chemist, Office of Food Additive Safety, Center for Food Safety and Applied Nutrition CFSAN/FDA, Division of Petition Review, 5100 Paint Branch Parkway, HFS-205, College Park, MD 20740, Telephone: (240) 402-1269, Fax: (301) 436-2972, email: susan.carberry@fda.hhs.gov.

For Further Information about the Public Meeting Contact: Daniel E. Folmer, Ph.D., Review Chemist, Office of Food Additive Safety, Center for Food Safety and Applied Nutrition CFSAN/FDA, Division of Petition Review, 5100 Paint Branch Parkway, HFS-265, College Park, MD 20740, Telephone: (240) 402-1269, Fax: (301) 436-2972, email: daniel.folmer@fda.hhs.gov.

SUPPLEMENTARY INFORMATION:

Background

Codex was established in 1963 by two United Nations organizations, the Food and Agriculture Organization (FAO) and the World Health Organization (WHO). Through adoption of food standards, codes of practice, and other guidelines developed by its committees, and by promoting their adoption and implementation by governments, Codex seeks to protect the health of consumers and ensure that fair practices are used in trade.

The CCFA establishes or endorses permitted maximum levels for individual food additives; prepares priority lists of food additives for risk assessment by the Joint FAO/WHO Expert Committee on Food Additives (JECFA); assigns functional classes and International Numbering System (INS) numbers to individual food additives; recommends specifications of identity and purity for food additives for adoption by Codex; considers methods of analysis for the determination of additives in food; and considers and elaborates standards or codes for related subjects such as labeling of food additives when sold as such. The CCFA is hosted by China.

Issues To Be Discussed at the Public Meeting

The following items on the agenda for the 47th Session of the CCFA will be discussed during the public meeting:

• Matters Referred by Codex and other Codex committees

• Matters of Interest arising from FAO/WHO and from the 79th Meeting of the JECFA

• Proposed draft Specifications for Identity and Purity of Food Additives arising from the 79th JECFA Meeting

• Endorsement or Revision of Maximum Levels for Food Additives and Processing Aids in Codex standards

• Alignment of the food additive provisions of commodity standards and relevant provisions of the General Standard for Food Additives

• Provisions in Tables 1 and 2 for food additives listed in Table 3 with: (i) “acidity regulator” function for use other than as acidity regulators; and (ii) for other Table 3 food additives with functions other than “emulsifier, stabilizer, thickener,” “colour,” and “sweeteners”—pending from CCFA 46

• Provisions in Tables 1 and 2 for food additives listed in Table 3 with “emulsifier, stabilizer, thickener” function for their use for technological function other than as emulsifier, stabilizer, thickener

• Food additive provisions in Tables 1 and 2 in food categories 01.2 through 08.4, with the exclusion of food categories 04.1.2.4, 04.2.2.4, 04.2.2.5, 04.2.2.6, 05.1.1, 05.1.3, and 05.1.4

• Food additive provisions of food category 14.2.3 “Grape wines” and its sub-categories (information on actual use levels and recommendations)

• Provisions for cyclotetraglucose (INS 1504(i)), cyclotetraglucose syrup (INS 1504(ii)) and nisin (INS 234)

• Proposal for revision of food category 01.1 “Milk and diary based drinks” and its sub-categories

• Note 161—Application of alternative note to provisions for sweeteners

• Proposals for new or revision of food additive provisions

• Proposed draft revision to the INS for Food Additives

• Proposals for additions and changes to the Priority List of Substances proposed for evaluation by JECFA

• Information on the availability of data for the re-evaluation of six priority colours

• Information on commercial use of potassium diacetate (INS 261(ii)) in food

• Discussion paper on secondary additives

• Discussion paper on the inconsistent terminology related to flavourings in Codex texts

• Other Business and Future Work.

Each issue listed will be fully described in documents distributed, or to be distributed, by the Codex Secretariat prior to the meeting. Members of the public may access these documents at ftp://ftp.fao.org/codex/meetings/CCFA/ccfa46/.

Public Meeting

At the February 17, 2015, public meeting, draft U.S. positions on the agenda items will be described and discussed, and attendees will have the opportunity to pose questions and offer comments. Written comments may be offered at the meeting or sent to the U.S. Delegate for the 47th Session of the CCFA, Dr. Susan Carberry at the following email address: ccfa@fda.hhs.gov. Written comments should state that they relate to activities of the 47th Session of the CCFA.

Additional Public Notification

Public awareness of all segments of rulemaking and policy development is important. Consequently, FSIS will announce this Federal Register publication on-line through the FSIS Web page located at: http://www.fsis.usda.gov/federal-register.

FSIS also will make copies of this publication available through the FSIS Constituent Update, which is used to provide information regarding FSIS policies, procedures, regulations, Federal Register notices, FSIS public meetings, and other types of information that could affect or would be of interest to our constituents and stakeholders. The Update is available on the FSIS Web page. Through the Web page, FSIS is able to provide information to a much broader, more diverse audience. In addition, FSIS offers an email subscription service which provides automatic and customized access to selected food safety news and information. This service is available at: http://www.fsis.usda.gov/subscribe. Options range from recalls to export information, regulations, directives, and notices. Customers can add or delete subscriptions themselves, and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail

U.S. Department of Agriculture, Director, Office of Adjudication, 1400 Independence Avenue SW., Washington, DC 20250-9410.

Fax

(202) 690-7442.

Email

program.intake@usda.gov.

Persons with disabilities who require alternative means for communication (Braille, large print, audiotape, etc.), should contact USDA's TARGET Center at (202) 720-2600 (voice and TDD).

Done at Washington, DC, on January 9, 2015.
Paulo Almeida,
Acting, U.S. Manager for Codex Alimentarius.

[FR Doc. 2015-00435 Filed 1-13-15; 8:45 am]

BILLING CODE 3410-DM-P